DEPARTMENT OF COMMERCE

National Oceanic and Atmospheric Administration

RINs 0648-XA888, 0648-XA599, 0648-XC599, 0648-XE469, 0648-XE684, 0648-XE773, 0648-XE913, and 0648-XE915

Marine Mammals and Endangered Species; File Nos. 15682, 16094, 17845, 19627, 20197, 20452, 20341, and 20658

AGENCY: National Marine Fisheries Service (NMFS), National Oceanic and Atmospheric Administration (NOAA), Commerce.

ACTION: Notice; issuance of permit and permit amendments.

SUMMARY: Notice is hereby given that permits and permit amendments have been issued to the following entities:

RIN 0648-XA888; Permit No. 15682-01: Mithriel MacKay, Ph.D., 1394 Alameda Ave., Spring Hill, FL 34609;

RIN 0648-XA599; Permit No. 16094-04: Alaska Department of Fish and Game, Wildlife Conservation, 1255 West 8th Street, Juneau, AK 99811-5526 (Responsible Party: Robert Small, Ph.D.);

RIN 0648-XC599; Permit No. 17845-03: Rachel Cartwright, Ph.D., Keiki Kohola Project, 4945 Coral Way, Oxnard, CA 93035;

RIN 0648-XE469; Permit No. 19627: NMFS Southeast Fisheries Science Center, 75 Virginia Beach Drive, Room 207, Miami, FL 33149 (Responsible Party: Dr. Bonnie Ponwith);

RIN 0648-XE684; Permit No. 20197: NMFS Northeast Fisheries Science Center, 166 Water Street, Woods Hole, MA 025433 (Responsible Party: Dr. Jon Hare);

RIN 0648-XE773; Permit No. 20341: Craig Matkin, North Gulf Oceanic Society, 3430 Main St., Suite B1, Homer, AK 99603;

RIN 0648-XE913; Permit No. 20452: SMRU Consulting North America, LLC, P.O. Box 764, Friday Harbor, WA 98250;

RIN 0648-XE915; Permit No. 20658: Joseph Wilson, 1st Augustine's Yard, Gaunts Lane, Bristol, BS1 5DE, United Kingdom;

ADDRESSES: The permits and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard (File Nos. 15682, 17845 and 20532), Sara Young (File Nos. 16094 and 20452), Shasta McClenahan (File Nos. 17845, 20532, and 20658), Amy Hapeman (File Nos. 19627, 20197, & 20658), and Erin Markin (File Nos. 19627, & 20197) at (301) 427-8401.

SUPPLEMENTARY INFORMATION: Notices were published in the Federal Register that requests for a permit or permit amendment had been submitted by the above-named applicants. The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Permit No. 15682-01: The original permit (No. 15682), issued on December 20, 2011 (77 FR 268, January 4, 2012) authorized Dr. MacKay up to 700 takes of humpback whales (Megaptera novaeangliae) annually in waters off Puerto Rico during vessel-based photo-identification, behavioral observation, and passive acoustic recording. The minor amendment (No. 15682-01) extends the duration of the permit through December 31, 2017, but does not change any other terms or conditions of the permit.

Permit No. 16094-04: The original permit (No. 16094), issued on September 20, 2011 (76 FR 61345, October 4, 2011) authorized the permit holder to conduct research on harbor seals (Phoca vitulina) throughout their range in Alaska, including Southeast Alaska, Gulf of Alaska, and Bering Sea. Subsequent amendments were issued on March 28, 2012 (Permit No. 16094-01), June 1, 2012 (Permit No. 16094-02), and March 5, 2013 (Permit No. 16094-03). The minor amendment (No. 16094-04) extends the duration of the permit through December 31, 2017, but does not change any other terms or conditions of the permit.

Permit No. 17845-03: Permit No. 17845, issued on January 25, 2014 (79 FR 5382), authorizes Level A and B harassment of humpback whales during photo-identification, behavioral follows, and surface and underwater observations in Hawaii, Alaska, and California. Nine other cetacean species may be studied opportunistically and two species of pinnipeds may be incidentally harassed. The permit amendment (81 FR 67997, October 3, 2016) authorizes Level B playbacks for humpback whales in Hawaii to estimate their hearing range using behavioral observation audiometry. The sounds will be presented to a maximum of 300 humpback whales and their behavioral responses will be measured through visual and acoustic recordings including an unmanned aerial system. Only humpback whales will be targeted for active playback, but incidental harassment to additional species may occur including bottlenose dolphins (Tursiops truncatus), spinner dolphins (Stenella longirostris), false killer whales (Pseudorca crassidens), melon headed whales (Peponocephala electra), and short-finned pilot whales (Globicephala macrorhynchus). The permit is valid through January 31, 2019.

Permit No. 19627: The requested permit (81 FR 12077, March 8, 2016) authorizes the permit holder to monitor and provide data on green (Chelonia mydas), hawksbill (Eretmochelys imbricata), Kemp's ridley (Lepidochelys kempii), leatherback (Dermochelys coriacea), loggerhead (Caretta caretta), and olive ridley (L. olivacea) sea turtles that interact with commercial fisheries and other authorized activities in the Gulf of Mexico and along the U.S. East Coast. Researchers may handle, photograph, measure, weigh, flipper and passive integrated transponder tag, tissue sample, and temporary carapace mark live sea turtles and salvage dead specimens legally taken during commercial fishing and other activities. The permit is valid through January 15, 2022.

Permit No. 20197: The requested permit (81 FR 41296, June 24, 2016) authorizes researchers to collect data on green, Kemp's ridley, leatherback, loggerhead, and unidentified sea turtles that interact with commercial fisheries in the U.S. Northwest Atlantic Ocean. Researchers may handle, photograph, measure, weigh, flipper tag, and tissue sample live sea turtles and salvage dead specimens legally taken in commercial fisheries. The permit is valid through January 15, 2022.

Permit No. 20341: The requested permit (81 FR 59196, August 29, 2016) authorizes photo-identification, passive acoustics, morphometrics, biopsy sampling, and deployment of both suction cup and dart tagging in Alaskan waters for killer (Orcinus orca), gray (Eschrichtius robustus), minke (Balaenoptera acutorostrata), Baird's beaked (Berardius bairdii), Cuvier's beaked (Ziphius cavirostris), and Stejneger's beaked (Mesoplodon stenergeri) whales. Photogrammetry using unmanned aircraft systems may be used for killer whales. Prey remains may be collected from minke and gray whales, harbor porpoise (Phocoena phocoena), Dall's porpoise (Phocoenoides dalli), harbor seals, Pacific white-sided dolphins (Lagenorhynchus obliquidens), and northern fur seals (Callorhinus ursinus). The permit is valid through December 31, 2021.

Permit No. 20452: The requested permit (81 FR 68406, October 4, 2016) authorizes a combination of land-based surveys and passive acoustic monitoring methods to characterize the fine-scale habitat use of harbor porpoise and pinnipeds in tidal inlets directed at harbor porpoises and harbor seals in Washington waters. Steller sea lions (Eumetopias jubatus) and California sea lions (Zalophus californianus) may also be taken by acoustic playbacks and UAS.

Permit No. 20658: The requested permit (81 FR 70101, October 11, 2016) authorizes Mr. Wilson to film and photograph killer and Antarctic minke (Balaenoptera bonaerensis) whales in McMurdo Sound and the Ross Sea for the production of a documentary film for Disneynature studio. Up to 60 whales of each species per year may be targeted and disturbed during aerial filming and photography. The permit is valid through December 31, 2018.

In compliance with the National Environmental Policy Act of 1969 (42 U.S.C. 4321 et seq.), a final determination has been made that the activities proposed are categorically excluded from the requirement to prepare an environmental assessment or environmental impact statement.

As required by the ESA, as applicable, issuance of these permits and amendments were based on a finding that such permits and amendments: (1) Were applied for in good faith; (2) will not operate to the disadvantage of such endangered species; and (3) are consistent with the purposes and policies set forth in section 2 of the ESA.

Dated: February 15, 2017.
Julia Harrison,
Chief, Permits and Conservation Division, Office of Protected Resources, National Marine Fisheries Service.

[FR Doc. 2017-03334 Filed 2-17-17; 8:45 am]

BILLING CODE 3510-22-P